SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: March 1-31, 2018.

ADDRESSES: Susquehanna River Basin Commission, 4423 North Front Street, Harrisburg, PA 17110-1788.

FOR FURTHER INFORMATION CONTACT: Jason E. Oyler, General Counsel, 717-238-0423, ext. 1312, joyler@srbc.net. Regular mail inquiries may be sent to the above address.

SUPPLEMENTARY INFORMATION: This notice lists the projects, described below, receiving approval for the consumptive use of water pursuant to the Commission's approval by rule process set forth in 18 CFR 806.22(e) and 806.22 (f) for the time period specified above:

Approvals by Rule Issued Under 18 CFR 806.22(f)

1. SWN Production Company, LLC, Pad ID: Marichini-Zingieser (Pad 9), ABR-201303012.R1, Herrick Township, Bradford County, Pa.; Consumptive Use of Up to 4.9990 mgd; Approval Date: March 5, 2018.

2. Repsol Oil & Gas USA, LLC, Pad ID: MONRO (03 142) G, ABR-201803001, Columbia Township, Bradford County, Pa.; Consumptive Use of Up to 6.0000 mgd; Approval Date: March 12, 2018.

3. SWN Production Company, LLC, Pad ID: TI-20 Fall Creek B, ABR-201803002, Liberty Township, Tioga County, Pa.; Consumptive Use of Up to 4.9990 mgd; Approval Date: March 20, 2018.

4. SWN Production Company, LLC, Pad ID: TI-17 Hoffman, ABR-201803003, Liberty Township, Tioga County, Pa.; Consumptive Use of Up to 4.9990 mgd; Approval Date: March 20, 2018.

5. SWN Production Company, LLC, Pad ID: TI-23 Camp Woodhouse, ABR-201803004, Morris Township, Tioga County, Pa.; Consumptive Use of Up to 4.9990 mgd; Approval Date: March 20, 2018.

6. SWN Production Company, LLC, Pad ID: TI-25 Long Run Timber A, ABR-201803005, Morris Township, Tioga County, Pa.; Consumptive Use of Up to 4.9990 mgd; Approval Date: March 20, 2018.

7. Pennsylvania General Energy Company, L.L.C., Pad ID: COP Tract 322 Pad C, ABR-201304006.R1, Cummings Township, Lycoming County, Pa.; Consumptive Use of Up to 4.5000 mgd; Approval Date: March 21, 2018.

8. Pennsylvania General Energy Company, L.L.C., Pad ID: SGL75 PAD B, ABR-201308004.R1, McHenry Township, Lycoming County, Pa.; Consumptive Use of Up to 4.5000 mgd; Approval Date: March 21, 2018.

9. Cabot Oil & Gas Corporation, Pad ID: MolnarM P1, ABR-201303007.R1, Brooklyn and Lathrop Townships, Susquehanna County, Pa.; Consumptive Use of Up to 5.0000 mgd; Approval Date: March 22, 2018.

10. Cabot Oil & Gas Corporation, Pad ID: CastrogiovanniaA P3, ABR-201303011.R1, Bridgewater Township, Susquehanna County, Pa.; Consumptive Use of Up to 5.0000 mgd; Approval Date: March 22, 2018.

11. Cabot Oil & Gas Corporation, Pad ID: CarpenettiR P1, ABR-201303014.R1, Lathrop Township, Susquehanna County, Pa.; Consumptive Use of Up to 5.0000 mgd; Approval Date: March 22, 2018.

12. Cabot Oil & Gas Corporation, Pad ID: PritchardD P1, ABR-201304005.R1, Hartford Township, Susquehanna County, Pa.; Consumptive Use of Up to 5.0000 mgd; Approval Date: March 22, 2018.

13. SWN Production Company, LLC, Pad ID: FLICKS RUN EAST PAD, ABR-201302003.R1, Cogan House Township, Lycoming County, Pa.; Consumptive Use of Up to 4.9990 mgd; Approval Date: March 23, 2018.

14. SWN Production Company, LLC, Pad ID: DRANN PAD, ABR-201303006.R1, New Milford and Great Bend Townships, Susquehanna County, Pa.; Consumptive Use of Up to 4.9990 mgd; Approval Date: March 27, 2018.

15. Chief Oil & Gas, LLC, Pad ID: Lathrop Farm Trust B Drilling Pad, ABR-201309009.R1, Auburn Township, Susquehanna County, Pa.; Consumptive Use of Up to 2.0000 mgd; Approval Date: March 27, 2018.

16. JKLM Energy, LLC, Pad ID: Headwaters 146, ABR-201803006, Ulysses Township, Potter County, Pa.; Consumptive Use of Up to 3.2000 mgd; Approval Date: March 27, 2018.

17. Chief Oil & Gas, LLC, Pad ID: SGL 36 Drilling Pad, ABR-201803007, Overton Township, Bradford County, Pa.; Consumptive Use of Up to 2.5000 mgd; Approval Date: March 27, 2018.

18. SWN Production Company, LLC, Pad ID: McMahon (VW Pad), ABR-201304003R1, Stevens Township, Bradford County, Pa.; Consumptive Use of Up to 4.9990 mgd; Approval Date: March 30, 2018.

Authority: Pub. L. 91-575, 84 Stat. 1509 et seq., 18 CFR parts 806, 807, and 808.

Dated: April 20, 2018.
Stephanie L. Richardson,
Secretary to the Commission.

[FR Doc. 2018-08644 Filed 4-24-18; 8:45 am]

BILLING CODE 7040-01-P